DEPARTMENT OF TRANSPORTATION

Office of the Secretary

Notice of Applications for Certificates of Public Convenience and Necessity and Foreign Air Carrier Permits Filed Under Subpart B (Formerly Subpart Q) During the Week Ending December 6, 2014

AGENCY: Department of Transportation (DOT).

ACTION: Notice of Applications.

SUMMARY: The following Applications for Certificates of Public Convenience and Necessity and Foreign Air Carrier Permits were filed under Subpart B (formerly Subpart Q) of the Department of Transportation's Procedural Regulations (See 14 CFR 302. 201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0210.

Date Filed: December 1, 2014.

Due Date for Answers, Conforming Applications, or Motion to Modify Scope: December 22, 2014.

Description

Joint application of Alitalia—Compagnia Aerea Italiana S.p.A. (“Alitalia”) and Alitalia—Societa Aerea Italiana S.p.A. (“Alitalia Societa”) requesting (i) an exemption for Alitalia Societa to provide scheduled and charter foreign air transportation of persons, property and mail, (ii) the transfer and re-issuance of Alitalia's foreign air carrier permit from Alitalia to Alitalia Societa, and (iii) the transfer and re-issuance of Alitalia's codeshare statements of authorization to Alitalia Societa.

Docket Number: DOT-OST-2014-0213.

Date Filed: December 2, 2014.

Due Date for Answers, Conforming Applications, or Motion to Modify Scope: December 23, 2014.

Description

Application of Connect Air Ltd. requesting a foreign air carrier permit to enable Connect Air to operate with 703/104/705 category aircraft: (1) Charter foreign air transportation of persons, property and mail between any point or points in Canada and any point or points in the United States, and between any point or points in the United States and any point or points in a third country or countries, provided that, except with respect to cargo charters, such service constitutes part of a continuous operation, with or without a change of aircraft, that includes service to Canada for the purpose of carrying local traffic between Canada and the United States; and (2) other charters. Connect Air also requests: (1) Exemption authority, to the extent necessary to enable it to hold out and provide the service described above; and (2) such additional or other relief as the Department may deem necessary or appropriate.

Docket Number: DOT-OST-2014-0214.

Date Filed: December 3, 2014.

Due Date for Answers, Conforming Applications, or Motion to Modify Scope: December 24, 2014.

Description

Application of JetMagic Ltd. (“JetMagic”) requesting a foreign air carrier permit authorizing JetMagic authority to the extent necessary to engage in: (1) Charter foreign air transportation of persons, property and mail between any point or points behind any Member State of the European Union via any point or points in any Member State and via intermediate points to any point or point in the United States or beyond; (2) charter foreign air transportation of persons, property and mail between any point or points in the United States and any point or points in any Member of the European Common Aviation Area; (3) other charters pursuant to the prior approval requirements; and (4) transportation authorized by any additional route rights that may be made available to European Union carriers in the future. JetMagic also requests an exemption to the extent necessary to enable it to provide the service described above pending issuance of JetMagic's foreign air carrier permit, and such other relief as the Department may deem necessary or appropriate.

Barbara J. Hairston,
Supervisory Dockets Officer, Docket Operations, Federal Register Liaison.

[FR Doc. 2015-04445 Filed 3-3-15; 8:45 am]

BILLING CODE 4910-9X-P